DEPARTMENT OF ENERGY

Federal Energy Regulatory Commission

Combined Notice of Filings #1

Take notice that the Commission received the following electric rate filings:

Docket Numbers: ER17-955-000.

Applicants: PJM Interconnection, L.L.C.

Description: § 205(d) Rate Filing: Third Revised ISA No. 2554, Queue No. Z1-087 to be effective 1/9/2017.

Filed Date: 2/9/17.

Accession Number: 20170209-5212.

Comments Due: 5 p.m. ET 3/2/17.

Docket Numbers: ER17-956-000.

Applicants: Louisville Gas and Electric Company.

Description: § 205(d) Rate Filing: Att. O Formula Rate Protocols Revisions to be effective 4/12/2017.

Filed Date: 2/10/17.

Accession Number: 20170210-5045.

Comments Due: 5 p.m. ET 3/3/17.

Take notice that the Commission received the following electric reliability filings.

Docket Numbers: RD16-10-000.

Applicants: North American Electric Reliability Corporation, Western Electricity Coordinating Council.

Description: Joint Petition of the North American Electric Reliability Corporation and Western Electricity Coordinating Council for Approval of Retirement of Regional Reliability Standard TOP-007-WECC-1a. Also, on 11/16/2016 Supplemental Information for Petition was submitted.

Filed Date: 3/23/2016; 11/16/16.

Accession Number: 20160323-5219; 20161116-5174.

Comments Due: 5 p.m. ET 3/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2017.
Nathaniel J. Davis, Sr.,
Deputy Secretary.

[FR Doc. 2017-03218 Filed 2-16-17; 8:45 am]

BILLING CODE 6717-01-P